DEPARTMENT OF COMMERCE

National Oceanic and Atmospheric Administration

[I.D. 060704E]

Groundfish Fisheries of the Bering Sea and Aleutian Islands (BSAI) Area and the Gulf of Alaska, King and Tanner Crab Fisheries in the BSAI, Scallop and Salmon Fisheries Off the Coast of Alaska

AGENCY: National Marine Fisheries Service (NMFS), National Oceanic and Atmospheric Administration (NOAA), Commerce.

ACTION: Notice of public meeting.

SUMMARY: NMFS has requested the Center for Independent Experts (CIE) to conduct a peer review of the agency's evaluation of the effects of fishing on Essential Fish Habitat (EFH) in Alaska. CIE is a group affiliated with the University of Miami that provides independent peer reviews of NMFS science nationwide, including reviews of stock assessments for fish and marine mammals. The evaluation of the effects of fishing on EFH was completed in support of the Draft Environmental Impact Statement (DEIS) for EFH Identification and Conservation in Alaska. The CIE review will examine whether the evaluation incorporates the best available scientific information and provides a reasonable approach to understanding the effects of fishing on habitat in Alaska. As part of this review, NMFS will hold a public meeting between the CIE panel and the NMFS scientists who designed the analysis and the underlying model.

DATES: The public meeting will be held June 29, 2004, from 9 a.m. - 5 p.m. Pacific daylight time.

ADDRESSES: The meeting will convene at the NMFS Alaska Fisheries Science Center, Jim Traynor Conference Room, Building 4, 7600 Sand Point Way NE, Seattle, WA.

FOR FURTHER INFORMATION CONTACT: Jon Kurland, Assistant Regional Administrator for Habitat Conservation, 907-586-7638.

SUPPLEMENTARY INFORMATION:

Background

The Magnuson-Stevens Fishery Conservation and Management Act (Magnuson-Steven Act) requires NMFS and Fishery Management Councils to describe and identify EFH in fishery management plans (FMPs), minimize to the extent practicable the adverse effects of fishing on EFH, and identify other actions to encourage the conservation and enhancement of EFH. The North Pacific Fishery Management Council (North Pacific Council) amended its FMPs for the groundfish, crab, scallop, and salmon fisheries in 1998 to address the EFH requirements. The Secretary of Commerce, acting through NMFS, approved the North Pacific Council's EFH FMP amendments in January 1999 (64 FR 20216; April 26, 1999). In the spring of 1999, a coalition of seven environmental groups and two fishermen's associations filed suit in the United States District Court for the District of Columbia to challenge NMFS' approval of EFH FMP amendments prepared by the Gulf of Mexico, Caribbean, New England, North Pacific, and Pacific Fishery Management Councils. The focus of the litigation was whether NMFS and the Councils had adequately evaluated the effects of fishing on EFH and had taken appropriate measures to mitigate adverse effects. In September 2000, the court upheld NMFS' approval of the EFH amendments under the Magnuson-Stevens Act, but ruled that the environmental assessment prepared for the amendments violated the National Environmental Policy Act (NEPA). The court ordered NMFS to complete new and thorough NEPA analyses for each EFH amendment in question. The DEIS for EFH Identification and Conservation in Alaska is the curative NEPA analysis for the North Pacific Council's FMPs. A notice of availability for the DEIS was published in the Federal Register on January 16, 2004 (69 FR 2593). The DEIS is available on the internet at www.fakr.noaa.gov/habitat/seis/efheis.htm. The public comment period closed April 15, 2004.

The DEIS analysis of the effects of fishing on EFH has two components: (1) a quantitative mathematical model to show the expected long term effects of fishing on habitat, and (2) a qualitative assessment of how those changes affect fish stocks. After considering the available tools and methodologies for assessing effects of fishing on habitat, NMFS, the North Pacific Council, and the North Pacific Council's Scientific and Statistical Committee concluded that the model and analysis incorporate the best available scientific information and provide a good approach to understanding the impacts of fishing activities on habitat. Nevertheless, the model has not been subjected to a formal peer review. Given the newness of the model, the importance of this analysis for Alaska's fisheries, and the controversial nature of the subject matter, NMFS determined that an outside peer review is a prudent step that will strengthen the administrative record for the agency's decisions.

The CIE panel will consist of five reviewers plus a chair. The panel will review materials related to the topic, participate in a workshop with the NMFS scientists who developed the model and the analytical approach, and produce a report. The final report is due in August 2004 and will consist of individual reports from each panelist plus a summary report. The chair will present the results of the review during the October 2004 North Pacific Council meeting. Further information, including the statement of work for the CIE review and all of the documents NMFS is asking the panel to review, is available on the internet at www.fakr.noaa.gov/habitat/cie/review.htm.

Special Accommodations

The meeting is physically accessible to people with disabilities. Requests for special accommodations should be directed to Mary B. Goode, (907) 586-7636, at least five working days before the meeting date.

Authority: 16 U.S.C. 1801 et seq.

Dated: June 10, 2004.
Alan D. Risenhoover,
Acting Director, Office of Sustainable Fisheries, National Marine Fisheries Service.

[FR Doc. 04-13724 Filed 6-14-04; 4:55 pm]

BILLING CODE 3510-22-S